DEPARTMENT OF ENERGY

Federal Energy Regulatory Commission

[Docket No. CP06-77-000]

National Fuel Gas Supply Corporation; Notice of Application for Abandonment

March 7, 2006.

Take notice that on February 28, 2006, National Fuel Gas Supply Corporation (National Fuel) filed an application in Docket No. CP06-77-000 pursuant to section 7(b) of the Natural Gas Act and part 157 of the Commission's regulations, for permission and approval to partially abandon a storage service and transportation service it provides to Transcontinental Gas Pipe Line Corporation (Transco).

National Fuel proposes to partially abandon, effective April 1, 2006, a storage service and transportation service it provides to Transco under National Fuel's Rate Schedules SS-1 and X-54.

National Fuel states that National Fuel and Transco have agreed to reduce the Annual Storage Volume under the SS-1 contract from 11,000,000 Mcf to 10,637,000 Mcf and the Contract Demand under the X-54 Rate Schedule from 100,000 Mcf to 96,700 Mcf per day.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time March 17, 2006.

Magalie R. Salas,
Secretary.

[FR Doc. E6-3597 Filed 3-13-06; 8:45 am]

BILLING CODE 6717-01-P